DEPARTMENT OF COMMERCE

International Trade Administration

Notice of Recruitment

AGENCY: International Trade Administration, Department of Commerce.

ACTION: Notice of Recruitment.

SUMMARY: U.S. Department of Commerce Invites Small and Medium Enterprises to Join U.S. Delegation to Asia Pacific Economic Cooperation (APEC) Small and Medium Enterprise (SME) Ministerial Meeting and Related Events.

DATES: Conference: June 19-23, 2000.

Apply for participation in the U.S. Delegation by: no later than June 2, 2000.

ADDRESSES: Conference location at International Convention Center in Bandar Seri Begawan, Brunei Darussalam.

FOR FURTHER INFORMATION CONTACT: Mrs. Brenda J. Fisher, APEC Affairs Coordinator, Room 2316, International Trade Administration, U.S. Department of Commerce at phone 202/482-5334; fax 202/482-3316; or email: Brenda(underscore)Fisher@ita.doc.gov.

SUPPLEMENTARY INFORMATION:

Mission Description

Brunei, Chair of APEC 2000, will host the Small and Medium Enterprise (SME) Ministerial and related events, including a Business Forum and E-Commerce Workshop, from June 20-23, in Bandar Seri Begawan.

The Department of Commerce is the lead U.S. Government agency on SME issues in APEC. It is important that the DOC maintain the profile of SME issues within the APEC forum and make substantial, tangible progress on USG objectives, including E-Commerce. A senior Commerce Department official will lead the U.S. delegation, including interagency and private sector participation.

The Ministerial will focus on building the foundations on which SMEs can flourish in the digital economy by holding workshops and discussions that will produce recommendations on how to best exploit

• Information and communication technology

• Human resources and development

• Strategic alliances between SMEs and SMEs and larger firms

• Financing SMEs.

Participants

• Ministers from APEC Economies representing small business.

• Private Sector Delegations from all 21 APEC member economies.

Commercial Setting

The APEC SME Ministerial and related events are being held in Brunei as it is the Chair of APEC during 2000. The confluence of senior government officials and private sector delegations from the 21 APEC member economies is expected to generate frank and constructive discussions on issues of concern to all APEC member economies and business communities.

Private sector businesses will have a unique chance to shape APEC's action agenda for SMEs during the June 20-23 SME Ministerial Meeting, SME Business Forum and associated events. Continuing the tradition of past Business Forums, all 21 APEC SME Ministers have agreed to interact with delegates from the SME Business Forum, E-Commerce Workshop, and Women Leaders' Network meeting—to be held concurrently at the International Convention Center in Bandar Seri Begawan.

The Business Forum will provide a platform for frank and constructive discussions on issues of concern to all APEC economies and business communities. The E-Commerce Workshop participants are to develop a set of recommendations that will constitute a collective action plan for APEC members on improving the adoption of e-commerce by SMEs. The Women Leaders' Network meeting will bring together women from business, academia, and government from the APEC economies in a single forum to discuss the pressing issues surrounding womens' involvement in SME businesses.

The formal agendas for the meetings provide opportunities for interaction between senior Government officials and business leaders from the participating 21 APEC member economies (Australia, Brunei, Canada, Chile, Hong Kong, Indonesia, Japan, Korea, Malaysia, Mexico, New Zealand, Papua New Guinea, Peru, the Philippines, Peoples' Republic of China, Russia, Singapore, Thailand, Taiwan, United States, and Vietnam). Of course, networking can also be conducted on the margins of the official programs as well. The intent of these interactions is to develop tangible, practical and prioritized recommendations for APEC Ministers to act upon during the Ministerial Meeting on June 22-23.

The SME Business Forum recommendations and action plans from two associated APEC SME events, the E-Commerce Workshop (involving 200 government officials and private sector) and Women Leaders' Network (a meeting of 350 businesswomen), will be combined to provide a framework for practical action regarding programs and policies for SMEs. Participants will have an opportunity to shape the APEC dialogue on subjects vital to the growth and development of SMEs, including strategic alliances (between SMEs and between SMEs and larger firms); creating the best environment for e-commerce, and other information and communications technologies; financing; and developing human resources.

Mission Goals

Our policy objectives are to advance U.S. interests for SMEs in APEC and work to implement the USG theme of building the foundations on which economies, particularly SMEs, can flourish in the digital economy. We will continue to press within APEC to produce tangible outcomes for the private sector and enhance public-private dialogue. Specifically, we seek Ministerial endorsement of the U.S. SME Business Partnership Initiative, developed in cooperation with the U.S. Chamber of Commerce. The partnership works on a bilateral basis with other APEC economies to develop internet-based matchmaking systems of qualified SME companies. The Initiative demonstrates first-hand the value-added of strategic partnerships, particularly when the appropriate due diligence is conducted. This program offers an excellent example of outcomes-oriented APEC work. We also will maintain momentum on the APEC Consumer Education and Protection Initiative (CEPI), developed with the Direct Selling Association.

The U.S. delegation head will deliver general remarks during the Ministerial meetings on one theme, strategic alliances. It is hoped that our private sector delegation will represent firms who are engaged in strategic alliances in Asia, and/or can support the formation of strategic partnerships via the use of the Internet and electronic commerce. There will be several opportunities for informal interaction with both other Ministers and the private sector delegation members.

Mission Scenario

Optional Gold Key Program in Malaysia—June 19.

Women Leaders' Network Meeting in Brunei—June 17-20.

Business Forum and E-Commerce Workshop—June 20-22.

(Note: Agendas call for plenary sessions, interaction with Ministers, and working group breakout sessions to deliberate on Ministerial themes.)

SME Ministerial—June 22-23.

The Ministerial and related events will be held at the International Convention Center in Bandar Seri Begawan, Brunei Darussalam from June 20 to 23, 2000. Each private sector participant is responsible for arranging travel itinerary, hotel accommodations and paying for his/her stay in Brunei. The registration fees for the Ministerial-related events vary: Women Leaders' Network Meeting registration fee is $200.00/delegate; Business Forum registration fee is $150.00/delegate; E-Commerce Workshop registration fee for the first 5 U.S. firms accepted on U.S. delegation is waived. The registration fee for subsequent participants for the E-Commerce Workshop is $100.00/delegate.

In addition, U.S. private sector members of the delegation are being offered an optional group Gold Key program in Kuala Lumpur, Malaysia on June 19. The Commercial Service in Malaysia is responsible for organizing the optional one-day program, which will include an Embassy briefing, meeting appointments, and reception. Cost to participate in the Gold Key is $500/company.

There will be opportunities for informal interaction with both other Ministers and private sector delegation members. The head of the U.S. delegation will also interact with U.S. private sector participants via hospitality events and other meetings.

Criteria for Participant Selection

Eligibility

Participating companies must be incorporated in the United States.

A company is eligible to participate only if the products and/or services that it will promote on the U.S. delegation are either (a) manufactured in the United States; or (b) if manufactured or produced outside the United States, are marketed under the name of a U.S. firm and have at least 51 percent U.S. content of the value of the finished product/service.

Selection Criteria

Five to ten representatives of U.S. companies will be selected on the basis of:

• Company representatives' ability to participate in discussions of relevant marketing and investment issues they face in international trade, and/or demonstration of knowledge of working with information or other high-technology means, including e-commerce, to support strategic alliances between small and medium-sized firms (defined as not more than 500 employees) and/or between SMEs and larger firms. This would reflect consistency of company's market development goals with the scope and desired outcomes of the mission as described.

• Whether the company's overall business objectives, including those of any U.S. or overseas affiliates, are fully consistent with the mission's foreign and commercial policy objectives.

• Timely receipt of signed mission application and registration materials. For those interested in the optional Gold Key program in Malaysia, timely receipt of participation agreement, marketing form, company brochures, and $500.00 fee for each participating firm.

Mission recruitment will be conducted in an open and public manner, including publication in the Federal Register, posting on the Internet, direct mail and broadcast fax, e-mail, notices by industry trade associations and other multiplier groups, and press releases.

Any partisan political activities (including political contributions) of an applicant are entirely irrelevant to the selection process.

Time Frame for Applications

Application deadline: The Bruneian Government has requested that all participants be identified by no later than June 10, 2000. ITA staff expect recruitment outreach to conclude on/about June 2, 2000, in order to allow for time for review and approval of applications from the private sector.

Expressions of interest to obtain application and registration materials should be submitted immediately to: Brenda J. Fisher, APEC Affairs Coordinator, Room 2316, International Trade Administration, U.S. Department of Commerce, Washington, DC 20230. Phone 202 482 5334, Fax 202 482 3316; E-mail: Brenda_Fisher@ita.doc.gov

For overall meeting agendas, list of speakers, registration fees, and other administrative/logistical details, please visit the following websites, which are being regularly updated.

For SME Ministerial: http://apecsme2000.rba.com.bn

For E-Commerce Workshop: http://www.apec2000.gov.bn/ecomm

For SME Business Forum: http://www.bsmenet.org.bn/bizforum/index.htm

For Women Leaders' Meeting: http://www.apec2000.gov.bn/wln

Dated: May 12, 2000.
Philip R. Agress,
Acting Deputy Assistant Secretary for Asia and the Pacific, ITA/USDOC.

[FR Doc. 00-12466 Filed 5-17-00; 8:45 am]

BILLING CODE 3510-FP-P